DEPARTMENT OF LABOR

Office of the Secretary

Submission for OMB Review: Comment Request

January 19, 2010.

The Department of Labor (DOL) hereby announces the submission of the following public information collection requests (ICR) to the Office of Management and Budget (OMB) for review and approval in accordance with the Paperwork Reduction Act of 1995 (Pub. L. 104-13, 44 U.S.C. chapter 35). A copy of each ICR, with applicable supporting documentation; including, among other things, a description of the likely respondents, proposed frequency of response, and estimated total burden may be obtained from the RegInfo.gov Web site at http://www.reginfo.gov/public/do/PRAMain or by contacting Darrin King on 202-693-4129 (this is not a toll-free number)/e-mail: DOL_PRA_PUBLIC@dol.gov.

Interested parties are encouraged to send comments to the Office of Information and Regulatory Affairs, Attn: OMB Desk Officer for the Department of Labor—Occupational Safety and Health Administration (OSHA), Office of Management and Budget, Room 10235, Washington, DC 20503, Telephone: 202-395-7316/Fax: 202-395-5806 (these are not toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration.

Type of Review: Extension without change of a previously approved collection.

Title of Collection: 4,4′-Methylenedianiline Construction 29 CFR 1926.60.

OMB Control Number: 1218-0183.

Affected Public: Business or other for-profits (Construction Firms).

Estimated Number of Respondents: 33.

Estimated Total Annual Burden Hours: 1,030.

Estimated Total Annual Costs Burden (excludes hourly wage costs): $62,850.

Description: The purpose of the 4,4′-Methylenedianiline (MDA) Standard for the construction industry (29 CFR 1926.60) and its information collection requirements is to provide protection for employees from adverse health effects associated with occupational exposure to MDA. Employers must monitor exposure, keep employee exposures within the permissible exposure limits, provide employees with medical examinations and training, and establish and maintain employee exposure-monitoring and medical records. For additional information, see the related 60-day preclearance notice published in the Federal Register at Vol. 74 FR 55861 on October 29, 2009. PRA documentation prepared in association with the preclearance notice is available on http://www.regulations.gov under docket number OSHA-2009-0036.

Agency: Occupational Safety and Health Administration.

Type of Review: Extension without change of a previously approved collection.

Title of Collection: 4,4′-Methylenedianiline General Industry 29 CFR 1910.1050.

OMB Control Number: 1218-0184.

Affected Public: Business or other for-profits (General Industry).

Estimated Number of Respondents: 15.

Estimated Total Annual Burden Hours: 298.

Estimated Total Annual Costs Burden (excludes hourly wage costs): $21,428.

Description: The purpose of the 4,4′-Methylenedianiline (MDA) Standard for general industry (29 CFR 1910.1050) and its information collection requirements is to provide protection for employees from adverse health effects associated with occupational exposure to MDA. Employers must monitor exposure, keep employee exposures within the permissible exposure limits, provide employees with medical examinations and training, and establish and maintain employee exposure-monitoring and medical records. For additional information, see the related 60-day preclearance notice published in the Federal Register at Vol. 74 FR 55860 on October 29, 2009. PRA documentation prepared in association with the preclearance notice is available on http://www.regulations.gov under docket number OSHA-2009-0040.

Agency: Occupational Safety and Health Administration.

Type of Review: Extension without change of a previously approved collection.

Title of Collection: Electrical Protective Equipment (29 CFR 1910.137), and Electric Power Generation, Transmission, and Distribution (29 CFR 1910.269).

OMB Control Number: 1218-0190.

Affected Public: Business or other for-profits.

Estimated Number of Respondents: 20,765.

Estimated Total Annual Burden Hours: 34,208.

Estimated Total Annual Costs Burden (excludes hourly wage costs): $0.

Description: The information collection requirements contained in the Electrical Protective Equipment (29 CFR 1910.137) and Electric Power Generation, Transmission, and Distribution (29 CFR 1910.269) Standards are needed to help provide protection to workers who use electrical protective equipment and who are involved in industries engaged in electric power generation, transmission, and distribution work. For additional information, see the related 60-day preclearance notice published in the Federal Register at Vol. 74 FR 55261 on October 27, 2009. PRA documentation prepared in association with the preclearance notice is available on http://www.regulations.gov under docket number OSHA-2009-0037.

Agency: Occupational Safety and Health Administration.

Type of Review: Extension without change of a previously approved collection.

Title of Collection: Standard on Walking-Working Surfaces (29 CFR part 1910, subpart D).

OMB Control Number: 1218-0199.

Affected Public: Business or other for-profits.

Estimated Number of Respondents: 41,540.

Estimated Total Annual Burden Hours: 6,125.

Estimated Total Annual Costs Burden (excludes hourly wage costs): $0.

Description: The information collection requirements in the Walking-Working Surfaces standard (29 CFR part 1910, subpart D) is designed to protect workers by making them aware of load limits of the floors of buildings, defective portable metal ladders, and the specifications of outrigger scaffolds used. For additional information, see the related 60-day preclearance notice published in the Federal Register at Vol. 74 FR 55858 on October 29, 2009. PRA documentation prepared in association with the preclearance notice is available on http://www.regulations.gov under docket number OSHA-2009-0033.

Darrin A. King,
Departmental Clearance Officer.

[FR Doc. 2010-1268 Filed 1-22-10; 8:45 am]

BILLING CODE 4510-26-P